DEPARTMENT OF COMMERCE

Foreign-Trade Zones Board

[Order No. 1076]

Approval for Expanded Manufacturing Authority (Automobile Engines), Within Foreign-Trade Subzone 229A, Toyota Motor Manufacturing West Virginia, Inc., Buffalo, West Virginia

Pursuant to its authority under the Foreign-Trade Zones Act of June 18, 1934, as amended (19 U.S.C. 81a-81u), the Foreign-Trade Zones Board (the Board) adopts the following Order:

Whereas, Toyota Motor Manufacturing West Virginia, Inc., operator of FTZ Subzone 229A, located in Buffalo, West Virginia, has requested authority to expand the scope of FTZ authority to include additional internal-combustion engine manufacturing capacity under FTZ procedures (FTZ Doc. 3-99, filed 2-1-99);

Whereas, notice inviting public comment was given in the Federal Register (64 FR 6877, 2-11-99);

Whereas, the Board adopts the findings and recommendations of the examiner's report, and finds that the requirements of the FTZ Act and the Board's regulations are satisfied, and that approval of the application is in the public interest;

Now Therefore, the Board hereby approves the request subject to the FTZ Act and the Board's regulations, including § 400.28.

Signed at Washington, DC, this 10th day of February 2000.
Robert S. LaRussa,
Assistant Secretary of Commerce for Import Administration, Alternate Chairman, Foreign-Trade Zones Board.

[FR Doc. 00-3987 Filed 2-17-00; 8:45 am]

BILLING CODE 3510-DS-P